DEPARTMENT OF TRANSPORTATION

Pipeline and Hazardous Materials Safety Administration

[Docket No. PHMSA-2024-0041 (Notice No. 2024-13)]

Hazardous Materials: Information Collection Activities

AGENCY: Pipeline and Hazardous Materials Safety Administration (PHMSA), Department of Transportation (DOT).

ACTION: Notice and request for comments.

SUMMARY: In accordance with the Paperwork Reduction Act of 1995, PHMSA is publishing a 60-day supplemental notice and providing an additional opportunity for public comment on its development of general investigative questions that may be used by PHMSA's Office of Hazardous Materials Safety (OHMS) field operations personnel when investigating potential general safety issues. These questions are intended to facilitate fact-gathering efforts during general investigations related to PHMSA's safety oversight responsibilities. Answering these questions would be voluntary and not impose any new reporting or recordkeeping requirements on regulated entities. Rather, the goal is to develop a pool of questions that can be tailored as appropriate based on the specific circumstances of a general investigation that is not related to the inspection of an individual company or entity for compliance with the hazardous materials regulations.

DATES: Interested persons are invited to submit comments on or before January 6, 2025.

ADDRESSES: You may submit comments identified by the Docket Number PHMSA-2024-0041 (Notice No. 2024-13) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2024-0041) for this notice at the beginning of the comment. To avoid duplication, please use only one of these four methods. All comments received will be posted without change to the Federal Docket Management System (FDMS) and will include any personal information you provide.

Requests for a copy of an information collection should be directed to Steven Andrews or Nina Vore, Standards and Rulemaking Division, (202) 366-8553, ohmspra@dot.gov, Pipeline and Hazardous Materials Safety Administration, U.S. Department of Transportation, 1200 New Jersey Avenue SE, Washington, DC 20590-0001.

Docket: For access to the dockets to read background documents or comments received, go to http://www.regulations.gov or DOT's Docket Operations Office (see ADDRESSES).

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Please mark each page of your submission containing CBI as “PROPIN.” PHMSA will treat such marked submissions as confidential under the FOIA, and they will not be placed in the public docket of this notice. Submissions containing CBI should be sent to Steven Andrews or Nina Vore, Standards and Rulemaking Division and addressed to the Pipeline and Hazardous Materials Safety Administration, U.S. Department of Transportation, 1200 New Jersey Avenue SE, Washington, DC 20590-0001 or ohmspra@dot.gov. Any commentary that PHMSA receives which is not specifically designated as CBI will be placed in the public docket for this notice.

FOR FURTHER INFORMATION CONTACT: Steven Andrews or Nina Vore, Standards and Rulemaking Division, (202) 366-8553, ohmspra@dot.gov, Pipeline and Hazardous Materials Safety Administration, U.S. Department of Transportation, 1200 New Jersey Avenue SE, Washington, DC 20590-0001.

SUPPLEMENTARY INFORMATION:

I. Background

A. Initial 60-Day Notice

On June 12, 2024,¹ PHMSA published a 60-day notice to give the public the opportunity to comment on an information collection request seeking approval from the Office of Management and Budget (OMB) for a list of general investigation questions. PHMSA received seven (7) sets of comments from six (6) commenters on the 60-day notice. PHMSA is publishing this supplemental 60-day notice to address stakeholder comments (received from the initial 60-day notice), revise certain questions below based on feedback received, and clarify the intent of the information collection request. Specifically, PHMSA received comments from the following entities:

¹ 89 FR 50045 (Jun. 12, 2024)

Commenter name | Docket No.
Airline Pilots Association (ALPA) | https://www.regulations.gov/comment/PHMSA-2024-0041-0008.
Council on Safe Transportation of Hazardous Articles (COSTHA) | https://www.regulations.gov/comment/PHMSA-2024-0041-0005.
Dangerous Goods Advisory Council (DGAC) | https://www.regulations.gov/comment/PHMSA-2024-0041-0002. https://www.regulations.gov/comment/PHMSA-2024-0041-0003.
Household & Commercial Products Association (HCPA) | https://www.regulations.gov/comment/PHMSA-2024-0041-0007.
International Vessel Operators Dangerous Goods Association (IVODGA) | https://www.regulations.gov/comment/PHMSA-2024-0041-0006.
Smart TD | https://www.regulations.gov/comment/PHMSA-2024-0041-0004.

B. Response to Comments

ALPA provided comments suggesting that PHMSA should include questions about the adoption of a Safety Management System (SMS) and Safety Risk Assessment (SRA). COSTHA and IVODGA emphasized that some of the proposed questions might be beyond the shipper's operational scope, potentially asking for information outside the shipper's expertise, or lacking in clarity regarding the information sought by PHMSA. COSTHA and IVODGA also provided comments and proposed edits to the individual general investigation questions. DGAC expressed concerns that the general investigation questions lacked specificity and clarity in identifying the information PHMSA aims to collect to address safety issues. However, after receiving clarification from PHMSA on the intent of the information collection request, DGAC expressed willingness to review and comment on a supplemental notice. HCPA stated that PHMSA did not specify the selection criteria for respondents or how they should respond and questioned the relevance of the questions to investigations. HCPA also questioned PHMSA's assertion that there is no `burden cost' associated with this information collection request. Lastly, Smart TD expressed support for a streamlined inspection and standardized investigation process.

In this 60-day supplemental notice, PHMSA is reaffirming that the questions outlined in this information collection request are intended to be used to engage in voluntary discussions with stakeholders regarding important safety issues that are not related to any specific inspection or enforcement actions. The purpose of this information collection request is to allow PHMSA to engage with our stakeholders on a voluntary basis to discuss potential safety issues across a particular industry sector (e.g., the transportation of hazardous materials by vessel, etc.) or process (e.g., the production of organic peroxides, etc.). Compliance with the Paperwork Reduction Act (PRA) is required even if an information collection request is voluntary. One example of a scenario where PHMSA might use these general investigation questions is when there are unexplained incidents on vessels suspected of involving the transportation of hazardous materials. Having a list of pre-approved questions would enable PHMSA to proactively engage with the shippers associated with those vessels, and still comply with PRA requirements. Information obtained from this outreach could assist PHMSA in identifying potential actions to help safeguard the operators of these vessels.

PHMSA is also clarifying that the questions presented in this information collection request are not intended to be used by field operations staff when conducting routine investigations or inspections of individual companies for compliance with the Hazardous Materials Regulations (HMR; 49 CFR parts 171 through 180). Questions involving inspections and investigations used to determine compliance with the HMR are not subject to the PRA (see 5 CFR 1320.4). This exception to the PRA excludes information collected in response to, among other things, a federal civil action or “during the conduct of an administrative action, investigation, or audit involving an agency against specific individuals or entities.”

Finally, in this 60-day supplemental notice PHMSA has reviewed and revised—where appropriate—the questions that are part of this information collection request based on internal review and comments received to the initial 60-day notice. PHMSA is also clarifying the HCPA comment on “burden cost,” explaining that this term refers to the upfront capital costs the public incurs to comply with a Federal information collection request. This includes expenses for equipment, software, or other resources necessary to fulfill the requirements of an information collection request. As the responses to the questions outlined in this information collection request are voluntary and simply involve answering questions presented, there are no upfront capital costs associated with this information collection request. In this 60-day supplemental notice, PHMSA is proposing a maximum number of respondents, responses, and burden hours associated with this information collection request. PHMSA may reach out to respondents via telephone or email to voluntarily request answers to relevant questions mentioned in this notice.

C. Summary of Revised Questions in This 60-Day Supplemental Notice

PHMSA received comments from ALPA, COSTHA, HCPA, and IVODGA suggesting revisions to the questions in the initial 60-day notice. ALPA proposed adding air-related questions to the safety section, focusing on Safety Risk Assessment (SRA) and mitigating the risks associated with transporting hazardous materials by air. Both COSTHA and IVODGA provided comments suggesting revisions to the individual questions in the initial 60-day notice. Examples of these revisions included inquiring about the elements of a security plan, clarifying a question about validation processes, and specifying what PHMSA means by “entities.” Lastly, HCPA suggested replacing the word “see” in the list of questions with “ships or receives.”

In response to comments from ALPA, PHMSA has added questions on SRAs and mitigating the risk of transporting hazardous materials by air to this 60-day supplemental notice. PHMSA has also revised questions based on input received from COSTHA and IVODGA to account for multiple incidents, inquire about elements of a security plan, and clarify a question about validating processes. PHMSA has chosen to retain the current terminology for “entities,” as it offers a comprehensive framework that ensures inclusivity and broad applicability. In response to the HCPA comment, PHMSA has in this 60-day supplemental notice replaced the word “see” with “ships or receives” to provide greater clarity to these questions. Additionally, in this 60-day supplemental notice PHMSA has included a question at the end of each section to allow entities being questioned to provide any additional information that may help identify the circumstances of the safety issue. Finally, in this 60-day supplemental notice PHMSA has also revised the registration question to ask about both PHMSA and Federal Motor Carrier Safety Administration (FMCSA) registration.

D. Supplementary Information

The PRA requires Federal agencies to minimize paperwork burden on regulated entities and receive approval from OMB for any information collection requirements.

The development of these general investigation questions does not directly impose any new information collection requirements on the regulated community. PHMSA is seeking comments on the information collection burden of proposed general questions that agency investigators may use during general safety investigations. These voluntary questions would be designed to gather information about potential safety issues without imposing significant new information collection burdens on the public.

The use of such general investigation questions would allow the agency to carry out its statutory responsibilities to protect public safety while minimizing the paperwork burden on regulated entities. These questions would not require entities to provide specific reports or maintain additional records, but would simply facilitate the gathering of relevant facts during general safety investigations not associated with determining compliance with the HMR for a specific entity. The agency intends to develop a pool of questions that could be tailored as needed based on the specific circumstances of each general safety investigation. Examples may include questions about general industry operating procedures, training practices, incident reporting, hazard analysis, and other safety-related topics. No new data collection instruments or generalized surveys are proposed at this time.

This notice outlines PHMSA's intent to develop general investigation questions focused on safety that can be tailored as needed. It clarifies that no new reporting requirements or recordkeeping burdens are being imposed through this process. The notice demonstrates how this effort is meant to facilitate the agency's enforcement responsibilities while minimizing paperwork impacts, which can support compliance with the PRA.

Section 1320.8(d), title 5, Code of Federal Regulations (CFR) requires PHMSA to provide interested members of the public and affected agencies an opportunity to comment on information collection and recordkeeping requests. This notice identifies an information collection request PHMSA will be submitting to OMB.

II. General Investigation Questions To Be Submitted to OMB for Approval

Listed below are the general investigation questions that PHMSA plans to submit to OMB for approval:

1. Introduction Questions

a. What are your typical operations? Can you provide a general overview?

b. To the best of your knowledge, was a hazardous material involved in your operations?

c. If yes, please provide the proper shipping name.

d. Is there any other information you would like to share on this topic?

2. General Hazardous Materials (Hazmat) Information

a. Can you describe the hazardous materials in transportation you normally ship or receive?

i. How often do you ship or receive them?

ii. Are you shipping them?

iii. Are you storing them?

iv. Is there any other information you would like to share on this topic?

b. Are there any specific requirements for the condition of the hazardous material that must be followed before the identified material is transported?

c. Have these conditions been verified? If so, what was the method used?

d. Are there modal-specific (rail/air/vessel/highway) requirements for this hazardous material that you follow? If so, what are they?

e. Do the carriers accepting your hazardous material have any concerns/special accommodations when receiving your hazardous material?

f. Do shipping agents (e.g., insurance companies, shippers, freight forwarders, etc.) have specific requirements when accepting your hazardous material?

g. Which hazard class(es) of hazardous materials in transportation do you routinely ship or receive?

h. Is there any other information related to the hazardous materials that you ship and/or receive that you would like to share?

3. Hazardous Material Training

a. Which employees/departments are trained to be able to handle this hazardous material?

b. Who conducts this training?

c. When was the last time training was provided?

d. How do you determine who needs training?

e. Is there any other information you would like to share on this topic?

4. Safety

a. What have you or your industry done to mitigate risk around the hazardous material involved in the incident?

b. What solutions have been found to be helpful during hazardous materials incidents?

c. How would you handle a hazardous material found to be damaged or not properly packaged?

d. Are there any special requirements in place or instructions when hazardous materials are present?

e. Do you implement a Safety Management System (SMS) at your facility?

f. Do you implement a Safety Risk Assessment (SRA) at your facility? For example, for items being transported in the cargo compartment of an aircraft, do you implement the recommendations found in Advisory Circular 120-121 “Safety Risk Management Involving Items in Aircraft Cargo Compartments” published September 1, 2021?

g. What have you or your industry done to mitigate risk around the hazardous material being shipped?

h. Is there any other information you would like to share on this topic?

5. Emergencies/Incidents

a. Do you have the means to contain the hazardous material if there is an accident or an incident?

b. What remediation companies are potentially contracted at this location or by this company?

c. Does your operation require a hazmat security plan? If so, what elements of a security plan are implemented?

d. Is there any other information you would like to share on this topic?

6. Industry Process/SOPs

a. What other companies are you utilizing when transporting hazardous materials? Can you offer a point of contact to gather information about this company's transportation of this hazardous material (or materials)?

b. What are the locations of your hazardous materials operations?

c. Can you share the Standard Operation Procedures (SOP) for the handling of hazardous materials at your company?

d. Are you familiar with registration requirements?

e. Are you required to obtain a PHMSA or Federal Motor Carrier Safety Administration (FMCSA) registration?

f. Who signs and prepares shipping papers?

g. Do you transport any hazardous materials in compliance with an approval or special permit?

h. Do you have any type of validation process that confirms compliance with the HMR prior to making hazardous material shipments?

i. Is there any other information you would like to share on this topic?

7. Carriers/Shippers/Testers/Manufacturers

a. Do you manufacture any hazardous material packaging?

b. Are any other entities involved with the preparation, handling, or transportation of hazardous materials?

c. Is there any other information you would like to share on this topic?

8. Packaging

a. Where do you purchase hazardous materials packaging?

b. Is the product loaded at any specific temperature/pressure?

c. What types of packaging do you routinely ship or receive for hazardous materials transportation? Including bulk, non-bulk, and/or cylinders.

d. At what interval are you having the package tested? Who performs this function? Are there records?

e. How are you closing the packages? Which tools or other equipment are used?

f. Is there any other information you would like to share on this topic?

III. Data

The estimated reporting burdens associated with this information collection are as follows:

OMB Control Number: None.

Form Number: None.

Type of Review: Regular submission.

Affected Public: Business or other for-profit organizations.

Estimated Number of Respondents: 1,000.

Estimated Number or Responses: 1,000.

Estimated Time per Response: 30 minutes. Information will be collected on a voluntary basis to address potential safety issues identified by PHMSA investigators.

Estimated Total Annual Burden Hours: 500.

Estimated Burden Cost: $0.

IV. Request for Comments to This 60-Day Supplemental Notice

Comments are invited on: (1) whether the proposed collection of information is necessary for the proper performance of the functions of the agency, including whether the information shall have practical utility; (2) the accuracy of the agency's estimate of the burden (including hours and cost) of the proposed collection of information; (3) ways to enhance the quality, utility, and clarity of the information to be collected; and (4) ways to minimize the burden of the collection of information on respondents, including through the use of automated collection techniques or other forms of information technology.

Comments submitted in response to this 60-day supplemental notice will be summarized and/or included in the request for OMB approval of this information collection; they also will become a matter of public record.

Issued in Washington, DC on November 4, 2024, under authority delegated in 49 CFR 1.97.
Alexander Ronald Wolcott,
Acting Chief, Regulatory Review and Reinvention Branch, Office of Hazardous Materials Safety. Pipeline and Hazardous Materials Safety Administration.

[FR Doc. 2024-25875 Filed 11-6-24; 8:45 am]

BILLING CODE 4910-60-P